NATIONAL SCIENCE FOUNDATION

Notice of Intent To Seek Approval To Establish an Information Collection

AGENCY: National Science Foundation.

ACTION: Notice and request for comments.

SUMMARY: The National Science Foundation (NSF) is announcing plans to request clearance of this collection. In accordance with the requirement of Section 3506(c)(2)(A) of the Paperwork Reduction Act of 1995 (Pub. L. 104-13), we are providing opportunity for public comment on this action. After obtaining and considering public comment, NSF will prepare the submission requesting that OMB approve clearance of this collection for no longer than three years.

DATES: Written comments on this notice must be received by December 17, 2007 to be assured of consideration. Comments received after that date will be considered to the extent practicable.

Comments: Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; (d) ways to minimize the burden of the collection of information on those who are to respond, including through the use of appropriate automated, electronic, mechanical or other technological collection techniques or other forms of information technology.

FOR FURTHER INFORMATION CONTACT: Suzanne Plimpton, Reports Clearance Officer, National Science Foundation, 4201 Wilso Boulevard, Suite 295, Arlingon, Virginia 22230; telephone (703) 292-7556; or sent e-mail to splimpto@nsf.gov. Individuals who use a telecommunications device for the deaf (TDD) may call the Federal Information Relay Service (FIRS) at 1-800-877-8339 between 8 a.m. and 8 p.m., Eastern time, Monday through Friday. You may obtain a copy of the data collection instrument and instructions from Ms. Plimpton.

SUPPLEMENTARY INFORMATION:

Title of Collection: Descriptive and Exploratory Study of the National Science Foundation's Small Grants for Exploratory Research Funding Mechanism.

OMB Number: 3145-New.

Expiration Date of Approval: Not applicable.

Type of request: New.

Abstract: The SGER funding mechanism was developed in 1989 by an external committee, and authorized by NSF Director Bloch for use beginning at the start of Fiscal Year 1990. The committee's charge was to recommend whether NSF as a whole should adopt a mechanism similar to one that had been piloted by the Engineering Directorate, known as Small Grants for Expedited Research. While that title emphasized award timeliness, the mechanism's purposes included funding innovative research ideas. The current formulation of SGER remains conceptually and administratively similar to its original purposes and practices. Over time, NSF has broadened award parameters (award ceiling and duration) and sharpened definitions of purposes (e.g., inserting the term Transformative Research). In at least one case the SGER mechanism was modified for a specific program purpose (the Nanoscale Exploratory Grants, which were externally reviewed).

All applicants will be asked about topics relating to the application process (how they found out about SGER, why this mechanism and not a standard proposal, etc.). Awardees will also be asked about activities resulting from their awards, such as follow-on proposals, involvement of graduate students, and testing of new instrumentation. Declinees will be asked, for example, what action they took concerning the declined proposal (wrote standard proposal to NSF or another agency, and whether that was awarded). All applicants will be asked about the guidelines and funding and mechanism, and how they can be improved, e.g., through changes in their design components, expected outcomes, proposal review criteria, etc.

The survey data collection will be done on the World Wide Web.

Estimate of Burden: Public reporting burden for this collection of information is estimated to average 30 minutes per response.

Respondents: Government grant holders—Individuals.

Estimated Number of Responses per Form: 2500.

Estimated Total Annual Burden on Respondents: 400 hours (800 respondents at 30 minutes per response).

Frequency of Response: Once.

Dated: October 12, 2007.
Suzanne H. Plimpton,
Reports Clearance Officer, National Science Foundation.

[FR Doc. 07-5137 Filed 10-17-07; 8:45 am]

BILLING CODE 7555-01-M